DEPARTMENT OF HOUSING AND URBAN DEVELOPMENT

[Docket No. FR-5607-N-17]

Notice of Proposed Information Collection; Comment Request Housing Counseling Program

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 23, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Brian Siebenlist, Deputy Director, Office of Single Family Program Support Division, Department of Housing and Urban Development, 451 7th Street SW., Washington, DC 20410, telephone (202) 402-5415 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Housing Counseling Program.

OMB Control Number, if applicable: 2502-0261.

Description of the need for the information and proposed use: Nonprofit Housing Counseling organizations submit information to HUD through Grants.gov when applying for grant funds to provide housing counseling assistance to eligible homebuyers to find and purchase affordable housing; Housing Counseling organizations also assist eligible homeowners to avoid foreclosures; The Housing Counseling organizations also use grant funds to assist renters to avoid evictions; help the homeless find temporary or permanent shelter; report fair housing and discrimination. HUD uses the information collected to evaluate applicants competitively and then select qualified organizations to receive funding that supplement their housing counseling program. Post-award collection, such as quarterly reports, will allow HUD to evaluate grantees' performance. This collection of information includes renewal of various HUD forms, including the HUD-9900 which is the Housing Counseling Approval Application, and form HUD-9902, Housing Counseling Agency Activity Report. Additionally, it covers the collection of client level activities, client financial leverage data, and agency profile information.

Agency form numbers, if applicable: SF-424, SF-424Supp, SF-424CB, SF-LLL, HUD-27300, HUD-2880, HUD-2990, HUD-2991, HUD-2994, HUD-96010, HUD-9902.

Estimation of the total number of hours needed to prepare the information collection including number of respondents, frequency of response, and hours of response: The estimated total number of hours needed to prepare the information collection is 36,320; the number of respondents is 12,450 generating approximately 39,980 annual responses; the frequency of response is on occasion or quarterly; and the estimated time needed to prepare the response is approximately 49 hours.

Status of the proposed information collection: This is extension of currently approved collection.

Authority: The Paperwork Reduction Act of 1995, 44 U.S.C., Chapter 35, as amended.

Dated: May 17, 2012.
Ronald Y. Spraker,
Acting General Deputy Assistant Secretary for Housing-Acting General Deputy Federal Housing Commissioner.

[FR Doc. 2012-12391 Filed 5-21-12; 8:45 am]

BILLING CODE 4210-27-P